DEPARTMENT OF COMMERCE

International Trade Administration

[A 427-009]

Industrial Nitrocellulose From France: Rescission of Antidumping Duty Administrative Review

AGENCY: Import Administration, International Trade Administration, Department of Commerce.

ACTION: Notice of rescission of antidumping duty administrative review.

SUMMARY: On October 1, 2001, the Department of Commerce initiated an administrative review of the antidumping duty order on industrial nitrocellulose from France. The review covers one manufacturer/exporter, Bergerac, N.C. The period of review is August 1, 2000, through July 31, 2001. We are rescinding this review after receiving a timely withdrawal from the parties requesting this review.

EFFECTIVE DATE: December 4, 2001.

FOR FURTHER INFORMATION CONTACT: Dunyako Ahmadu or Richard Rimlinger, AD/CVD Enforcement 3, Import Administration, International Trade Administration, U.S. Department of Commerce, 14th Street and Constitution Avenue, NW., Washington, DC 20230; telephone (202) 482-0198 or (202) 482-4477, respectively.

The Applicable Statute

Unless otherwise indicated, all citations to the Tariff Act of 1930, as amended (the Act), are references to the provisions in effect as of January 1, 1995, the effective date of the Uruguay Round Agreements Act. In addition, unless otherwise indicated, all citations to the Department of Commerce's (the Department's) regulations are to the regulations at 19 CFR part 351 (2001).

Background

On August 31, 2001, Bergerac, N.C. (Bergerac), SNPE North America, Inc. (SNPE), and Tevco, Inc. (Tevco), requested that the Department conduct an administrative review of Bergerac's shipments of industrial nitrocellulose from France for the period August 1, 2000, through July 31, 2001. On October 1, 2001, the Department published in the Federal Register a notice of initiation of this administrative review. See Initiation of Antidumping and Countervailing Duty Administrative Reviews and Requests for Revocation in Part (66 FR 49924).

On October 15, 2001, Bergerac, SNPE, and Tevco withdrew their request for a review and asked the Department to rescind the administrative review.

Rescission of Reviews

Pursuant to 19 CFR 351.213(d)(1), the Department will rescind an administrative review if a party that requested the review withdraws the request within 90 days of the date of publication of the notice of initiation of the requested review. Because Bergerac, SNPE, and Tevco submitted their request for rescission within the 90-day time limit and there were no requests for a review from other interested parties, we are rescinding this review. As such, we will issue appropriate appraisement instructions directly to the Customs Service.

This notice is in accordance with section 777(i) of the Act and 19 CFR 351.213(d)(4).

Dated: November 28, 2001.
Richard W. Moreland,
Deputy Assistant Secretary, Import Administration.

[FR Doc. 01-30017 Filed 12-3-01; 8:45 am]

BILLING CODE 3510-DS-P